DEPARTMENT OF LABOR

Employment and Training Administration

[TA-W-54,987]

Remington Products Company, a Division of Rayovac Corporation, Including Leased Workers of Impact Personnel, Accountants, Inc., Mid-State Technical and Power Recruiting, Bridgeport, CT; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on June 25, 2004, applicable to workers of Remington Products, including leased workers of Impact Personnel, Accountants, Inc., Mid-State Technical and Power Recruiting, Bridgeport, Connecticut. The notice was published in the Federal Register on August 3, 2004 (69 FR 46576).

At the request of the State agency, the Department reviewed the certification for workers of the subject firm. The workers are engaged in the production of electric shavers.

New information from the State shows that Remington Products was purchased by Rayovac Corporation and is now known as Remington Products Company, a division of Rayovac Corporation. Information also shows that as of April 2004, workers separated from employment at the subject firm had their wages reported under a separate unemployment insurance (UI) tax account for Rayovac Corporation.

Accordingly, the Department is amending the certification to properly reflect this matter.

The amended notice applicable to TA-W-54,987 is hereby issued as follows:

All workers of Remington Products Company, a division of Rayovac Corporation, including leased workers of Impact Personnel, Accountants, Inc., Mid-State Technical, and Power Recruiting, Bridgeport, Connecticut, engaged in employment related to the production of electric razors, who became totally or partially separated from employment on or after May 26, 2003, through June 25, 2006, are eligible to apply for adjustment assistance under section 223 of the Trade Act of 1974, and are also eligible to apply for alternative trade adjustment assistance under section 246 of the Trade Act of 1974.

Signed in Washington, DC this 30th day of August, 2004.
Linda G. Poole,
Certifying Officer, Division of Trade Adjustment Assistance.

[FR Doc. E4-2095 Filed 9-7-04; 8:45 am]

BILLING CODE 4510-30-P